DEPARTMENT OF HOMELAND SECURITY

Federal Emergency Management Agency

[Docket ID: FEMA-2010-0039]

Agency Information Collection Activities: Submission for OMB Review; Comment Request, OMB No. 1660-0023; Effectiveness of a Community's Implementation of the NFIP Community Assistance Program CAC and CAV Reports

AGENCY: Federal Emergency Management Agency, DHS.

ACTION: Notice; 30-day notice and request for comments; revision of a currently approved information collection; OMB No. 1660-0023; FEMA Form 086-0-28 (formerly 81-69), Community Visit Report; and FEMA Form 086-0-29 (formerly 81-68), Community Contact Report.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before December 8, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Effectiveness of a Community's Implementation of the NFIP Community Assistance Program CAC and CAV Reports.

Type of information collection: Revision of a currently approved information collection.

OMB Number: 1660-0023.

Form Titles and Numbers: FEMA Form 086-0-28 (formerly FEMA Form 81-69), Community Visit Report; FEMA Form 086-0-29 (formerly FEMA Form 81-68), Community Contact Report.

Abstract: Through the use of a Community Assistance Contact (CAC) or Community Assistance Visit (CAV), FEMA can make a comprehensive assessment of a community's floodplain management program. Through this assessment, FEMA can assist the community to understand the National Flood Insurance Program's requirements, and implement effective flood loss reduction measures. Communities can achieve cost savings through flood mitigation actions by way of insurance premium discounts and reduced property damage.

Affected Public: State, local or Tribal Government.

Estimated Number of Respondents: 3,000.

Frequency of Response: On Occasion.

Estimated Average Hour Burden per Respondent: 3 Hours.

Estimated Total Annual Burden Hours: 4,000 Hours.

Estimated Cost: There is no capital, start-up, operation or maintenance cost associated with this collection.

Dated: November 2, 2010.
Lesia M. Banks,
Director, Records Management Division, Mission Support Bureau, Federal Emergency Management Agency, Department of Homeland Security.

[FR Doc. 2010-28109 Filed 11-5-10; 8:45 am]

BILLING CODE 9110-12-P